DEPARTMENT OF HEALTH AND HUMAN SERVICES

Health Resources and Services Administration

Agency Information Collection Activities: Proposed Collection Comment Request

In compliance with the requirement for opportunity for public comment on proposed data collection projects (section 3506(c)(2) of Title 44, United States Code, as amended by the Paperwork Reduction Act of 1995, Pub. L. 104-13), the Health Resources and Services Administration (HRSA) will publish periodic summaries of proposed projects being developed for submission to OMB under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: The Nursing Education Loan Repayment Program Application (OMB No. 0915-0140)—Revision

This is a request for revision of the Nursing Education Loan Repayment Program (NELRP) application and participant monitoring forms. The NELRP was originally authorized by 42 U.S.C. 297b(h) (section 836(h) of the Public Health Service Act) as amended by Public Law 100-607, November 4, 1988. The NELRP is currently authorized by 42 U.S.C. 297n (section 846 of the Public Health Service Act) as amended by Public Law 107-205, August 1, 2002.

Under the NELRP, registered nurses are offered the opportunity to enter into a contractual agreement with the Secretary to receive loan repayment for up to 85 percent of their qualifying educational loan balance as follows: 30 percent each year for the first 2 years and 25 percent for the third year. In exchange, the nurses agree to serve full-time as a registered nurse for 2 or 3 years at a health care facility with a critical shortage of nurses.

NELRP requires the following information:

1. Applicants must provide information on their nursing education, employment, and proposed service site;

2. Applicants must provide information on their outstanding nursing educational loans;

3. Applicants must provide banking information from their financial institution; and

4. Employers must provide information on the health care facility and on the employment status of applicants and participants.

Form | Number of respondents | Responses per respondents | Total responses | Hours per response | Total burden hours
Estimates of Annualized Hour Burden are as Follows for Applicants:
NELRP Application | 5,000 | 1 | 5,000 | 1.5 | 7,500
Loan Verification Form | 5,000 | 3 | 15,000 | 1 | 15,000
Applicant Employment Verification Form | 5,000 | 1 | 5,000 | .5 | 2,500
Payment Information Form | 5,000 | 1 | 5,000 | 1 | 5,000
Application Checklist | 5,000 | 1 | 5,000 | .5 | 2,500
Pre-Award Confirmation Checklist | 600 | 1 | 600 | .25 | 150
Total | 5,000 |  | 35,600 |  | 32,650
Estimates of Annualized Hour Burden are as Follows for Participants:
Participant Semi-Annual Employment Verification Form | 1,300 | 2 | 2,600 | .5 | 1,300
Total | 1,300 | 2 | 2,600 | .5 | 1,300

Send comments to Susan G. Queen, Ph.D., HRSA Reports Clearance Officer, Room 10-33 Parklawn Building, 5600 Fishers Lane, Rockville, Maryland 20857. Written comments should be received with 60 days of this notice.

Dated: June 11, 2007.
Caroline Lewis,
Associate Administrator for Management.

[FR Doc. E7-11557 Filed 6-14-07; 8:45 am]

BILLING CODE 4165-15-P